DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 4, 2006.

Interested persons are invited to submit written comments regarding the subject matter of the investigations to the Director, Division of Trade Adjustment Assistance, at the address shown below, not later than December 4, 2006.

The petitions filed in this case are available for inspection at the Office of the Director, Division of Trade Adjustment Assistance, Employment and Training Administration, U.S. Department of Labor, Room C-5311, 200 Constitution Avenue, NW., Washington, DC 20210.

Signed at Washington, DC, this 9th day of November 2006.
Richard Church,
Certifying Officer, Division of Trade Adjustment Assistance.

Appendix
[TAA petitions instituted between 10/30/06 and 11/3/06]
TA-W | Subject firm (petitioners) | Location | Date of institution | Date of petition
60322 | Western Textile Printing Co. (COMP) | Piedmont, SC | 10/30/06 | 10/27/06
60323 | Cookson Electronics/Fry Metals Inc./Alpha Metals (Union) | Jersey City, NJ | 10/30/06 | 10/27/06
60324 | Lines Unlimted, Inc. (Wkrs) | Kernersville, NC | 10/30/06 | 10/20/06
60325 | West TN Machining (Wkrs) | Camden, TN | 10/30/06 | 10/27/06
60326 | Paxar Corporation (Wkrs) | Fair Lawn, NJ | 10/30/06 | 10/27/06
60327 | Production Products (Wkrs) | Bonne Terre, MO | 10/30/06 | 10/23/06
60328 | Johnson Controls Inc. (Union) | Fullerton, CA | 10/30/06 | 10/25/06
60329 | Dirigo Stitching (COMP) | Skowhegan, ME | 10/30/06 | 10/30/06
60330 | Paige Electric (Wkrs) | McConnellsburg, PA | 10/31/06 | 10/24/06
60331 | UGM, Inc. (COMP) | Salida, CA | 10/31/06 | 10/20/06
60332 | Valley-Dynamo (COMP) | Richland Hills, TX | 10/31/06 | 10/26/06
60333 | Intel-Jones Farm Camps (Wkrs) | Hillsboro, OR | 10/31/06 | 10/24/06
60334 | Intel Cornell Oaks Campus (Wkrs) | Beaverton, OR | 10/31/06 | 10/26/06
60335 | Intel Ronier Acres Campus (Wkrs) | Hillsboro, OR | 10/31/06 | 10/26/06
60336 | Ward Products (Wkrs) | North Brunswick, NJ | 10/31/06 | 10/30/06
60337 | Production Products (Wkrs) | Bonne Terre, MO | 10/31/06 | 10/26/06
60338 | Intel Elam Young Campus (Wkrs) | Hillsboro, OR | 10/31/06 | 10/26/06
60339 | Intel-Aloha Campus (Wkrs) | Aloha, OR | 10/31/06 | 10/26/06
60340 | Intel-AmerGlen Campus (Wkrs) | Beaverton, OR | 10/31/06 | 10/24/06
60341 | Intel Evergreen Campus (Wkrs) | Hillsboro, OR | 10/31/06 | 10/26/06
60342 | General Cable Corporation (Wkrs) | Lawrenceburg, KY | 11/01/06 | 10/29/06
60343 | Welch Allyn, Inc. (COMP) | San Diego, CA | 11/01/06 | 10/27/06
60344 | Georgia Pacific Corporation (Wkrs) | El Dorado, AR | 11/01/06 | 10/30/06
60345 | Pride Manufacturing Co. (COMP) | Portal, GA | 11/01/06 | 10/25/06
60346 | Tubular Technologies, LLC (COMP) | Welcome, NC | 11/01/06 | 10/27/06
60347 | Timken Company (Union) | Torrington, CT | 11/01/06 | 10/31/06
60348 | Del Monte Fresh Produce (Hawaii) Inc. (COMP) | Honolulu, HI | 11/01/06 | 10/30/06
60349 | Versa-Tech Machining, Inc. (Wkrs) | Union, SC | 11/01/06 | 10/13/06
60350 | Clariant Corporation (COMP) | Coventry, RI | 11/01/06 | 10/27/06
60351 | Gyrus ACMI Corporation (Comp) | Racine, WI | 11/01/06 | 10/31/06
60352 | Imperial World (State) | Westmont, IL | 11/01/06 | 10/31/06
60353 | Rice Mills, Inc. (Comp) | Belton, SC | 11/01/06 | 10/31/06
60354 | Altana Pharma USA (Comp) | Florham Park, NJ | 11/01/06 | 10/27/06
60354A | Altana Pharma USA (Comp) | Waltham, MA | 11/01/06 | 10/27/06
60355 | Xron, Inc. (Wkrs) | Garden Grove, CA | 11/02/06 | 10/26/06
60356 | Turtle Wax, Inc. (Union) | Willowbrook, IL | 11/02/06 | 10/31/06
60357 | Adapto-Indiana, Inc. (IBT) | South Bend, IN | 11/02/06 | 11/01/06
60358 | Calhoun Apparel, Inc. (Comp) | Calhoun City, MS | 11/02/06 | 10/30/06
60359 | Affinia Group, Inc. /Brake Parts, Inc. (Wkrs) | Cuba, MO | 11/02/06 | 10/29/06
60360 | Yakima Resources, LLC (UBCJA) | Yakima, WA | 11/03/06 | 10/31/06
60361 | Meadwestvaco (Union) | Colton, CA | 11/03/06 | 11/01/06
60362 | Blederlack of America Corporation (Comp) | Cumberland, MD | 11/03/06 | 10/13/06
60363 | Guido Corporation (Wkrs) | Pendleton, IN | 11/03/06 | 11/03/06
60364 | New Page Corporation—Rumford Mill (USW) | Rumford, ME | 11/03/06 | 11/03/06

[FR Doc. E6-19695 Filed 11-21-06; 8:45 am]

BILLING CODE 4510-30-P